DEPARTMENT OF COMMERCE

National Oceanic and Atmospheric Administration

[RTID 0648-XE191]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Western Atlantic sailfish is now overfished and the Pribilof Islands blue king crab remains overfished. NMFS, on behalf of the Secretary, is required to provide this notice whenever it determines that a stock or stock complex is subject to overfishing, overfished, or approaching an overfished condition.

FOR FURTHER INFORMATION CONTACT: Diana Perry, (301) 427-7863.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition.

NMFS has determined that Western Atlantic sailfish is now overfished. This determination is based on the most recent international stock assessment, completed in 2023 and using data through 2021, which indicates that the biomass is less than the minimum stock size threshold (MSST). NMFS continues to work with the International Commission for the Conservation of Atlantic Tunas to rebuild this stock through development of an international rebuilding program.

NMFS has determined that Pribilof Islands blue king crab is still overfished. This determination is based on the most recent assessment, completed in 2023 and using data through 2023, which indicates that the mature male biomass is less than the MSST. NMFS continues to work with the North Pacific Fishery Management Council to rebuild this stock.

Dated: September 19, 2024.
Karen H. Abrams,
Acting Director, Office of Sustainable Fisheries, National Marine Fisheries Service.

[FR Doc. 2024-21868 Filed 9-24-24; 8:45 am]

BILLING CODE 3510-22-P